DEPARTMENT OF VETERANS AFFAIRS

[OMB Control No. 2900-NEW]

Proposed Information Collection (Bowel and Bladder Care Billing Form) Activity: Comment Request

AGENCY: Veterans Health Administration, Department of Veterans Affairs.

ACTION: Notice.

SUMMARY: The Veterans Health Administration (VHA), Department of Veterans Affairs (VA), is announcing an opportunity for public comment on the proposed collection of certain information by the agency. Under the Paperwork Reduction Act (PRA) of 1995, Federal agencies are required to publish notice in the Federal Register concerning each proposed collection of information, including each new collection, and allow 60 days for public comment in response to the notice. This notice solicits comments on the information needed to evaluate the Bowel and Bladder Care Billing Form used by caregivers of eligible Veterans to document time spent providing services related specifically to bowel and bladder care.

DATES: Written comments and recommendations on the proposed collection of information should be received on or before October 25, 2013.

ADDRESSES: Submit written comments on the collection of information through Federal Docket Management System (FDMS) at www.Regulations.gov; or to Cynthia Harvey-Pryor, Veterans Health Administration (10B4), Department of Veterans Affairs, 810 Vermont Avenue NW., Washington, DC 20420; or email: cynthia.harvey-pryor@va.gov. Please refer to “OMB Control No. 2900-NEW (Bowel and Bladder Care Billing Form)” in any correspondence. During the comment period, comments may be viewed online through the FDMS.

FOR FURTHER INFORMATION CONTACT: Cynthia Harvey-Pryor at (202) 461-5870 or fax (202) 495-5397.

SUPPLEMENTARY INFORMATION: Under the PRA of 1995 (Pub. L. 104-13; 44 U.S.C. 3501—3521), Federal agencies must obtain approval from the Office of Management and Budget (OMB) for each collection of information they conduct or sponsor. This request for comment is being made pursuant to Section 3506(c)(2)(A) of the PRA.

With respect to the following collection of information, VHA invites comments on: (1) Whether the proposed collection of information is necessary for the proper performance of VHA's functions, including whether the information will have practical utility; (2) the accuracy of VHA's estimate of the burden of the proposed collection of information; (3) ways to enhance the quality, utility, and clarity of the information to be collected; and (4) ways to minimize the burden of the collection of information on respondents, including through the use of automated collection techniques or the use of other forms of information technology.

Titles: Bowel and Bladder Care Billing Form, VA Form 10-10071.

OMB Control Number: 2900-NEW.

Type of Review: New data collection.

Abstract: The information requested on this form is required for National Non-VA Medical Care Program Office to pay eligible caregivers for time spent providing eligible Veterans with specifically defined services such as: bowel and bladder care, showering, shaving, brushing teeth, dressing, transferring to wheelchair, catheterization, undressing, transferring to bed, putting away clothes, etc.

Affected Public: Individuals or households.

Estimated Annual Burden: 7600 burden hours.

Estimated Average Burden per Respondent: 10 minutes.

Frequency of Response: 12 per year.

Estimated Number of Respondents: 3800.

Dated: August 21, 2013.
By direction of the Secretary.
Crystal Rennie,
VA Clearance Officer, U.S. Department of Veterans Affairs.

[FR Doc. 2013-20683 Filed 8-23-13; 8:45 am]

BILLING CODE 8320-01-P